ENVIRONMENTAL PROTECTION AGENCY

[FRL-9887-01-OMS]

Privacy Act of 1974; System of Records

AGENCY: Office of Land and Emergency Management (OLEM), Environmental Protection Agency (EPA).

ACTION: Notice of a new system of records.

SUMMARY: The U.S. Environmental Protection Agency's (EPA) Office of Land and Emergency Management (OLEM) is giving notice that it proposes to create a new system of records pursuant to the provisions of the Privacy Act of 1974. The Office of Land and Emergency Management, Customer Relationship Management System (OLEM CRM) is being created to support work under the Bipartisan Infrastructure Law (BIL), Save Our Seas 2.0 (SOS 2.0), and the Resource Conservation and Recovery Act (RCRA). The OLEM CRM will track and manage stakeholder engagement, stakeholder commitments, EPA commitments, and external communications with stakeholders related to the implementation of OLEM's initiatives.

DATES: Persons wishing to comment on this system of records notice must do so by October 6, 2022. Routine uses for this new system of records will be effective October 6, 2022.

ADDRESSES: Submit your comments, identified by Docket ID No. EPA-HQ-OLEM-2022-0451, by one of the following methods:

Federal eRulemaking Portal: https://www.regulations.gov. Follow the online instructions for submitting comments.

Email: docket_oms@epa.gov. Include the Docket ID number in the subject line of the message.

Fax: (202) 566-1752.

Mail: OMS Docket, Environmental Protection Agency, Mail Code: 2822T, 1200 Pennsylvania Ave. NW, Washington, DC 20460.

Hand Delivery: OMS Docket, EPA/DC, WJC West Building, Room 3334, 1301 Constitution Ave. NW, Washington, DC 20460. Such deliveries are only accepted during the Docket's normal hours of operation, and special arrangements should be made for deliveries of boxed information.

Instructions: Direct your comments to Docket ID No. EPA-HQ-OLEM-2022-0451. The EPA's policy is that all comments received will be included in the public docket without change and may be made available online at https://www.regulations.gov, including any personal information provided, unless the comment includes information claimed to be Controlled Unclassified Information (CUI) or other information for which disclosure is restricted by statute. Do not submit information that you consider to be CUI or otherwise protected through https://www.regulations.gov. The https://www.regulations.gov website is an “anonymous access” system for the EPA, which means the EPA will not know your identity or contact information. If you submit an electronic comment, the EPA recommends that you include your name and other contact information in the body of your comment. If the EPA cannot read your comment due to technical difficulties and cannot contact you for clarification, the EPA may not be able to consider your comment. If you send an email comment directly to the EPA without going through https://www.regulations.gov, your email address will be automatically captured and included as part of the comment that is placed in the public docket and made available on the internet. Electronic files should avoid the use of special characters, any form of encryption, and be free of any defects or viruses. For additional information about the EPA public docket, visit the EPA Docket Center homepage at https://www.epa.gov/dockets.

Docket: All documents in the docket are listed in the https://www.regulations.gov index. Although listed in the index, some information is not publicly available, e.g., CUI or other information for which disclosure is restricted by statute. Certain other material, such as copyrighted material, will be publicly available only in hard copy. Publicly available docket materials are available either electronically in https://www.regulations.gov or in hard copy at the OMS Docket, EPA/DC, WJC West Building, Room 3334, 1301 Constitution Ave. NW, Washington, DC 20460. The Public Reading Room is normally open from 8:30 a.m. to 4:30 p.m., Monday through Friday excluding legal holidays. The telephone number for the Public Reading Room is (202) 566-1744, and the telephone number for the OMS Docket is (202) 566-1752. Further information about EPA Docket Center services and current operating status is available at https://www.epa.gov/dockets.

FOR FURTHER INFORMATION CONTACT: Ron Vance, OLEM CRM System Manager. Email address: vance.ronald@epa.gov. Phone: 202-566-0295. Address: Resource Conservation and Sustainability Division, U.S. Environmental Protection Agency, 1301 Constitution Avenue NW, MC 5306T, Washington, DC 20460.

SUPPLEMENTARY INFORMATION: The Bipartisan Infrastructure Law (BIL), Save Our Seas 2.0 (SOS 2.0), and the Resource Conservation and Recovery Act (RCRA) direct EPA to design and implement waste reduction strategies, grant programs, stakeholder education and outreach, and implementation of OLEM initiatives. EPA is creating the OLEM CRM to facilitate stakeholder engagement, track commitments from stakeholders, monitor EPA's commitments, and manage communications with stakeholders related to this work. The OLEM CRM will achieve the following critical objectives:

• Maintain a list of stakeholder organizations and contacts,

• Manage stakeholder education and outreach, engagement events, and communications,

• Maintain and document communication with stakeholders, and

• Manage Strategy Implementation Plan actions and commitments.

SYSTEM NAME AND NUMBER:

Office of Land and Emergency Management, Customer Relationship Management System (OLEM CRM), EPA-96.

SECURITY CLASSIFICATION:

Unclassified.

SYSTEM LOCATION:

Records are maintained by the Office of Mission Support, U.S. Environmental Protection Agency, 1301 Constitution Ave. NW, Washington, DC 20460. OLEM CRM records are hosted by AWS GovCloud (US).

SYSTEM MANAGER(S):

Ron Vance, OLEM CRM System Manager. Email address: vance.ronald@epa.gov. Phone: 202-566-0295. Address: Resource Conservation and Sustainability Division, U.S. Environmental Protection Agency, 1301 Constitution Avenue NW, MC 5306T, Washington, DC 20460.

AUTHORITY FOR MAINTENANCE OF THE SYSTEM:

The Bipartisan Infrastructure Law (BIL) 42 U.S.C. 6966d, Save Our Seas 2.0 (SOS2.0) 33 U.S.C. 4281, and the Resource Conservation and Recovery Act (RCRA) 42 U.S.C 6902.

PURPOSE(S) OF THE SYSTEM:

EPA will use the OLEM CRM to track correspondence and engagement of external stakeholders. EPA will also use the OLEM CRM to track stakeholder commitments and actions. OLEM has staff in EPA headquarters and regional offices managing multiple engagement initiatives and interacting with thousands of outside organizations. The OLEM CRM is essential in helping to organize and coordinate efforts among EPA program staff.

CATEGORIES OF INDIVIDUALS COVERED BY THE SYSTEM:

The OLEM CRM will contain information on all organizations participating in OLEM initiatives. Categories of individuals on whom records are maintained in the system include those that serve as contacts for or representatives of organizations participating in these initiatives.

CATEGORIES OF RECORDS IN THE SYSTEM:

Information includes organization name, address, phone number, website, and social media handles; individual information for organizational contacts including name, title, address, email, and phone number; correspondence history between EPA and the organization; organization's participation history in OLEM initiatives; and documents associated with correspondence or participation.

RECORD SOURCE CATEGORIES:

Information contained in the OLEM CRM will be submitted to EPA from the participating organizations via direct data entry into the OLEM CRM, email, or phone.

ROUTINE USES OF RECORDS MAINTAINED IN THE SYSTEM, INCLUDING CATEGORIES OF USERS AND PURPOSES OF SUCH USES:

The routine uses below are both related to and compatible with the original purpose for which the information was collected. The following general routine uses apply to this system (86 FR 62527): D, E, G, H, K, L and M.

POLICIES AND PRACTICES FOR STORAGE OF RECORDS:

OLEM CRM records are maintained electronically by EPA on electronic storage devices by the Office of Mission Support, U.S. Environmental Protection Agency, 1301 Constitution Ave. NW, Washington, DC 20460.

POLICIES AND PRACTICES FOR RETRIEVAL OF RECORDS:

Information in the OLEM CRM is retrieved by organization name, however, information is also retrievable by searching the point of contact name for each organization.

POLICIES AND PRACTICES FOR RETENTION AND DISPOSAL OF RECORDS:

The record schedule for the OLEM CRM is 0090 which is Administrative Support Databases. For disposition instructions the OLEM CRM follows record schedule 1012 e, which states that records should be closed when superseded, updated, replaced or no longer needed for current agency business. The disposition instructions are to destroy the records one year after file closure.

ADMINISTRATIVE, TECHNICAL, AND PHYSICAL SAFEGUARDS:

Security controls used to protect personal data in the OLEM CRM are commensurate with those required for an information system rated MODERATE for confidentiality, integrity, and availability, as prescribed in National Institute of Standards and Technology (NIST) Special Publication, 800-53, “Security and Privacy Controls for Information Systems and Organizations,” Revision 5.

1. Administrative Safeguards: All individuals accessing the system are required to complete annual privacy and security trainings. In addition, all users will be trained on the appropriate use of the system and system information.

2. Technical Safeguards: There are limited access rights for EPA program staff and contractors. Each user will ensure that the information is being properly used. System administrators will grant users specific access levels. All users of the system are given a unique user identification (ID) with personal identifiers, and all interactions between the system and the authorized individual users are logged. Activity logs are maintained and can be used to track misuse of information.

3. Physical Safeguards: All records are maintained in secure, access-controlled areas or buildings.

RECORD ACCESS PROCEDURES:

All requests for access to personal records should cite the Privacy Act of 1974 and reference the type of request being made (i.e., access). Requests must include: (1) the name and signature of the individual making the request; (2) the name of the Privacy Act system of records to which the request relates; (3) a statement whether a personal inspection of the records or a copy of them by mail is desired; and (4) proof of identity. A full description of EPA's Privacy Act procedures for requesting access to records is included in EPA's Privacy Act regulations at 40 CFR part 16.

CONTESTING RECORD PROCEDURES:

Requests for correction or amendment must include: (1) the name and signature of the individual making the request; (2) the name of the Privacy Act system of records to which the request relates; (3) a description of the information sought to be corrected or amended and the specific reasons for the correction or amendment; and (4) proof of identity. A full description of EPA's Privacy Act procedures for the correction or amendment of a record is included in EPA's Privacy Act regulations at 40 CFR part 16.

NOTIFICATION PROCEDURES:

Individuals who wish to be informed whether a Privacy Act system of records maintained by EPA contains any record pertaining to them should make a written request to the EPA, Attn: Agency Privacy Officer, MC 2831T, 1200 Pennsylvania Ave. NW, Washington, DC 20460, or by email at: privacy@epa.gov. A full description of EPA's Privacy Act procedures is included in EPA's Privacy Act regulations at 40 CFR part 16.

EXEMPTIONS PROMULGATED FOR THE SYSTEM:

None.

HISTORY:

None.

Vaughn Noga,
Senior Agency Official for Privacy.

[FR Doc. 2022-19183 Filed 9-2-22; 8:45 am]

BILLING CODE 6560-50-P